DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration.

Title: NTIA/FCC Web-Based Frequency Coordination System.

OMB Control Number: 0660-0018.

Form Number(s): N/A.

Type of Request: Regular submission (extension of a currently approved information collection).

Number of Respondents: 5,000.

Average Hours per Response: 15 minutes.

Burden Hours: 1,250.

Needs and Uses: The National Telecommunications and Information Administration (NTIA) hosts a Web-based system that collects specific identification information (e.g., company name, location and projected range of the operation) from applicants seeking to operate in existing and planned radio frequency (RF) bands that are shared on a co-primary basis by Federal and non-Federal users. The Web-based system provides a means for non-Federal applicants to rapidly determine the availability of RF spectrum in a specific location, or a need for detailed frequency coordination of a specific newly proposed assignment within the shared portions of the radio spectrum; and replaced the manual RF assignment process used by the Federal Communications Commission and NTIA. The system helps expedite the coordination process for non-federal applicants while assuring protection of government data relating to national security. The Web-based system replaced a manual process where coordination and approval could take up to a year to complete.

Affected Public: Business or other for-profit organizations; state or local government.

Frequency: On occasion.

Respondent's Obligation: Voluntary.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to Nicholas Fraser, OMB Desk Officer, FAX number (202) 395-5167, or via the Internet at Nicholas_A._Fraser@omb.eop.gov.

Dated: November 8, 2013.
Gwellnar Banks,
Management Analyst, Office of the Chief Information Officer.

[FR Doc. 2013-27328 Filed 11-14-13; 8:45 am]

BILLING CODE 3510-60-P